DEPARTMENT OF THE INTERIOR

National Park Service

[NPS-WASO-NAGPRA-NPS0030240; PPWOCRADN0-PCU00RP14.R50000]

Notice of Intent To Repatriate Cultural Items: John Michael Kohler Arts Center, Sheboygan, WI

AGENCY: National Park Service, Interior.

ACTION: Notice.

SUMMARY: The John Michael Kohler Arts Center, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the John Michael Kohler Arts Center. If no additional claimants come forward, transfer of control of the cultural items to the lineal descendants, Indian Tribes, or Native Hawaiian organizations stated in this notice may proceed.

DATES: Lineal descendants or representatives of any Indian tribe or Native Hawaiian organization not identified in this notice that wish to claim these cultural items should submit a written request with information in support of the claim to the John Michael Kohler Arts Center at the address in this notice by July 10, 2020.

ADDRESSES: Sam Gappmayer, Director, John Michael Kohler Arts Center, 608 New York Avenue, Sheboygan, WI 53081, telephone (920) 458-6114, email sgappmayer@jmkac.org.

SUPPLEMENTARY INFORMATION: Notice is here given in accordance with the Native American Graves Protection and Repatriation Act (NAGPRA), 25 U.S.C. 3005, of the intent to repatriate cultural items under the control of the John Michael Kohler Arts Center, Sheboygan, WI, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In the early 1900's, 5,816 cultural items were removed from in and around the city of Sheboygan in Sheboygan County, WI. The items were removed by Sheboygan Jeweler Rudolph Kuehne. After his death, they were sold to the Kohler Foundation in the late 1920's by Kuehne's widow. The collection was packed away and not studied until 1968 when it was examined by John Michael Kohler Arts Center in connection with an exhibition. Kohler Foundation gifted the collection to the John Michael Arts Center on August 15, 1974.

The 5,816 cultural items include 2,717 stone points and stone point fragments, 1,165 scrapers/scraper fragments, seven stone hand axes, 130 stone celts/hammerstones, 97 grooved stone hammers/axe heads, 17 stone gorgets, eight stone beads, 59 gaming stones, one stone implement club, one stone pestle, 93 stone sinkers/weights, two stone bar amulets, 213 copper points, 16 copper blades, 531 copper awls/needles, 147 copper hooks, 307 copper preforms/floats/modified copper, 24 copper beads, three copper wedges/chisels, one copper pike, three copper rings/adornments, one copper spud, one copper bannerstone, three copper crescents, five stone pipe components, five clay pipe components, two wood pipe components, two pipe tomahawks, 44 worked antler/bone fragments, 31 Antlers/bone awls/points, eight small clay vessels (<6″ dia.), 15 medium clay vessels (6″-12″ dia.), one large clay vessel (>12″ dia.), 49 boxes of pottery fragments (each box approx. 3″ x 12″ x 9″), 86 clay pottery fragments, one clay animal effigy, six boxes of geology/plant specimens (each box approx. 3″ x 12″ x 9″), seven beaded belts/saches, one beaded pouch/bag, one beaded footwear (pair), two beaded bands, and three beaded necklaces.

Consultation with Eben Crawford, Curator and NAGPRA Assistant for the Winnebago Tribe of Nebraska, supports determination that the objects listed in this notice are cultural items. According to Mr. Crawford “The aforementioned objects currently in the possession of the John Michael Kohler Arts Center are either identified by accession information as belonging to the Tribe or were collected in the area the Tribe and its ancestors historically inhabited.”

Determinations Made by the John Michael Kohler Arts Center

Officials of the John Michael Kohler Arts Center have determined that:

• Pursuant to 25 U.S.C. 3001(3)(D), the 5,816 cultural items described above have ongoing historical, traditional, or cultural importance central to the Native American group or culture itself, rather than property owned by an individual.

• Pursuant to 25 U.S.C. 3001(2), there is a relationship of shared group identity that can be reasonably traced between the objects of cultural patrimony and the Winnebago Tribe of Nebraska.

Additional Requestors and Disposition

Lineal descendants or representatives of any Indian Tribe or Native Hawaiian organization not identified in this notice that wish to claim these cultural items should submit a written request with information in support of the claim to Sam Gappmayer, Director, John Michael Kohler Arts Center, 608 New York Avenue, Sheboygan, WI 53081, telephone (920) 458-6114, email sgappmayer@jmkac.org, by July 10, 2020. After that date, if no additional claimants have come forward, transfer of control of the objects of cultural patrimony to the Winnebago Tribe of Nebraska may proceed.

The John Michael Kohler Arts Center is responsible for notifying the Winnebago Tribe of Nebraska that this notice has been published.

Dated: April 23, 2020.
Melanie O'Brien,
Manager, National NAGPRA Program.

[FR Doc. 2020-12546 Filed 6-9-20; 8:45 am]

BILLING CODE 4312-52-P